LIBRARY OF CONGRESS

Copyright Office

37 CFR Part 201

[Docket No. 2013-5]

Authentication of Electronic Signatures on Electronically Filed Statements of Account

AGENCY: U.S. Copyright Office, Library of Congress.

ACTION: Notice of proposed rulemaking; correction.

SUMMARY: The U.S. Copyright Office published a notice of proposed rulemaking in the Federal Register of June 26, 2013 (78 FR 38240). The document contained incorrect dates.

DATES: Comments must be received in the Copyright Office no later than 5 p.m. Eastern Standard Time (EST) on July 26, 2013. Reply comments must be received in the Copyright Office no later than 5 p.m. Eastern Standard Time (e.s.t.) on August 26, 2013.

FOR FURTHER INFORMATION CONTACT: Andrea Zizzi, Office of the General Counsel, Copyright GC/I&R, P.O. Box 70400, Washington, DC 20024. Telephone: (202) 707-8380. Telefax: (202) 707-8366.

SUPPLEMENTARY INFORMATION:

Correction

In the Federal Register of June 26, 2013 (78 FR 38240), on page 38241, in the first column, the DATES caption is corrected to read as set forth above.

Dated: June 26, 2013.
Maria Strong,
Acting General Counsel, U.S. Copyright Office.

[FR Doc. 2013-15699 Filed 6-28-13; 8:45 am]

BILLING CODE 1410-30-P